DEPARTMENT OF TRANSPORTATION

Research and Special Programs Administration

Office of Hazardous Materials Safety, Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before August 21, 2003.

ADDRESS COMMENTS TO: Records Center, Research and Special Programs, Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 75h Street, SW., Washington, DC 20590 or at http://dms.dot.gov.

This notice of receipt of applications for new exemptions is published in accordance with part 107 of the Federal hazardous materials transportation law (49 U.S.C. 5117(b); 49 CFR 1.53(b)).

Issued in Washington, DC, on July 15, 2003.
R. Ryan Posten,
Exemptions Program Officer, Office of Hazardous Materials, Exemptions and Approvals.

New Exemptions
Application No. | Docket No. | Applicant | Regulation(s) affected | Nature of exemption thereof
13262-N |  | Symmetricom, Inc., Beverly, MA | 49 CFR 172.400(a), 172.500, 173.211(a), 175.3 | To authorize the transportation in commerce of certain cesium devices consisting of an inner cylinder enclosed within an outer stainless steel, welded, hermetically sealed cylinder containing Division 4.3 hazardous materials. (modes 1, 2, 3, 4, 5)
13263-N |  | Air Products & Chemical, Inc., Allentown, PA | 49 CFR 173.192, 173.201, 173.202, 173.203, 173.226, 173.227, 173.301(f), 173.302(a), 173.304a(a)(2) | To authorize the manufacture, mark, sale and use of non-DOT specification, full removable head salvage cylinders for use in overpacking damaged or leaking packages of pressurized and non-pressurized hazardous materials. (mode 1)
13264-N |  | Trinity Manufacturing, Inc., Hamlet, NC | 49 CFR 172.101, Col 7, SP B14, 173.244 | To authorize the transportation in commerce of non-DOT specification portable tank mounted in an ISO frame that complies with the IMO Type 5 specification and built to ASME Code for use in transporting chloropicrin, Division 6.1. (modes 1, 3)
13265-N |  | Aeropres Corporation Shreveport, LA | 49 CFR 173.315 | To authorize the transportation in commerce of dimethyl ether, in MC-331 cargo tanks with a minimum design pressure of 175 psig. (mode 1)
13266-N |  | Luxfer Gas Cylinders Riverside, CA | 49 CFR 173.301(h), 173.302(a), 178.46(a)(4), 178.46(c)(i) | To authorize the manufacture, marking, sale and use of non-DOT specification hoop wrapped composite cylinder conforming to DOT FRP-2 for use in storing medical gases. (mode 1)
13268-N |  | Ciba Speciality Chemicals McIntosh, AL | 49 CFR 177.834(i)(3) | To authorize an alternative attendance requirement of cargo tanks during loading and unloading of various classes of hazardous materials. (mode 1)
13269-N |  | Brenntag Mid-South, Inc., Henderson, KY | 49 CFR 173.301(f) | To authorize the one-way transportation in commerce of anhydrous amonia in DOT specification cylinders equipped with emergency kits to prevent leakage during transportation. (mode 1)

[FR Doc. 03-18607 Filed 7-21-03; 8:45 am]

BILLING CODE 4910-60-M